DEPARTMENT OF COMMERCE

National Oceanic and Atmospheric Administration

[I.D. 010902B]

Marine Mammals; File No. 775-1600-01

AGENCY: National Marine Fisheries Service (NMFS), National Oceanic and Atmospheric Administration (NOAA), Commerce.

ACTION: Receipt of application for amendment.

SUMMARY: Notice is hereby given that Michael Sissenwine, Northeast Fisheries Science Center, National Marine Fisheries Service, Room 312, 166 Water Street, Woods Hole, MA 02543, has requested an amendment to scientific research Permit No. 775-1600-01.

DATES: Written or telefaxed comments must be received on or before February 15, 2002.

ADDRESSES: The amendment request and related documents are available for review upon written request or by appointment in the following office(s):

Permits, Conservation and Education Division, Office of Protected Resources, NMFS, 1315 East-West Highway, Room 13705, Silver Spring, MD 20910; phone (301) 713-2289; fax (301) 713-0376; and

Northeast Region, NMFS, One Blackburn Drive, Gloucester, MA 01930-2298; phone (508) 281-9250; fax (508) 281-9371.

Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular amendment request would be appropriate.

Comments may also be submitted by facsimile at (301) 713-0376, provided the facsimile is confirmed by hard copy submitted by mail and postmarked no later than the closing date of the comment period. Please note that comments will not be accepted by e-mail or other electronic media.

FOR FURTHER INFORMATION CONTACT: Amy Sloan or Ruth Johnson, (301) 713-2289.

SUPPLEMENTARY INFORMATION: The subject amendment to Permit No. 775-1600-01, issued on March 6, 2001 (66 FR 32793) is requested under the authority of the Marine Mammal Protection Act of 1972, as amended (16 U.S.C. 1361 et seq.), and the Regulations Governing the Taking and Importing of Marine Mammals (50 CFR part 216).

Permit No. 775-1600-01 authorizes the permit holder to conduct research on 28 species of cetacean in the North Atlantic Ocean, and on harbor seals (Phoca vitulina), gray seals (Halichoerus grypus), harp seals (Phoca groenlandica), and hooded seals (Cystophora cristata) in coastal Maine, Massachusetts, New Hampshire, and Delaware. The principal purpose of the research, for all species, relates to stock assessment, an activity for which NMFS has primary responsibility under the MMPA. Types of take for cetaceans include potential harassment by shipboard and aerial approach, photo-ID, biopsy sampling, acoustic sampling, and tagging. Types of take for the 4 species of pinnipeds include potential harassment by shipboard and aerial approach; type of takes for harbor and gray seals include photo-ID and incidental harassment during scat and carcass collections; harbor seals may also be captured, biopsy and blood sampled, VHF tagged, “hat tagged”, and flipper tagged. The Permit also authorizes import and export of marine mammal parts (including soft and hard tissue, blood, extracted DNA, and whole dead animals or parts thereof) to and from any country.

The permit holder requests authorization to capture, examine, measure, flipper tag (retain tissue from tagging), apply a “seal hat”, and photograph up to 200 gray seal pups; blood sample 50 of the 200 pups captured; and VHF tag 30 of the 200 pups captured. These activities would occur in coastal Maine and Massachusetts for purposes of stock assessment.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: January 9, 2002.
Ann D. Terbush,
Chief, Permits, Conservation and Education Division, Office of Protected Resources, National Marine Fisheries Service.

[FR Doc. 02-1135 Filed 1-15-02; 8:45 am]

BILLING CODE 3510-22-S